DEPARTMENT OF THE INTERIOR

Fish and Wildlife Service

Notice of Availability of the Draft Stage I Assessment Plan for the Kalamazoo River Environment Site Natural Resource Damage Assessment

AGENCY: Fish and Wildlife Service, Interior.

ACTION: Notice of comment period.

SUMMARY: Notice is given that the draft “Stage I Assessment Plan [for the] Kalamazoo River Environment Site” is available for public review and comment. The public comment period started with local newspaper notices and placement of the document at repositories at the Allegan Public Library, Charles Ransom Library, Kalamazoo Public Library, Otsego District Library, Saugatuck-Douglas Library, and Waldo Library on November 20, 2000.

The U.S. Department of the Interior (“Department”), the Michigan Department of Environmental Quality, the Michigan Attorney General, and the U.S. National Oceanic and Atmospheric Administration are acting as co-trustees for natural resources considered in this assessment plan, pursuant to subpart G of the National Oil and Hazardous Substances Pollution Contingency Plan, 40 CFR 300.600 and 300.610, and Executive Order 12580.

The assessment plan describes the first stage of a natural resource damage assessment which the trustees are conducting pursuant to the Natural Resource Damage Assessment Regulations found at 43 CFR Part 11. The public review of the assessment plan announced by this Notice is provided for in 43 CFR 11.32(c)(1).

Interested members of the public are invited to review and comment on the assessment plan. Copies of the assessment plan can be requested from the address listed below. The trustees may revise the assessment plan in response to issues raised during the comment period. All written comments will be considered.

The U.S. Fish and Wildlife Service and the Michigan Department of Environmental Quality will hold an informational meeting regarding the assessment plan at 7 p.m. on Monday, December 4, 2000, at the Plainwell Comfort Inn, 622 Allegan Street (M-89), Plainwell, MI (616-685-9891).

DATES: Written comments on the assessment plan described in this notice must be submitted on or before January 16, 2001.

ADDRESSES: The assessment plan is available at repositories at the Allegan Public Library, Charles Ransom Library, Kalamazoo Public Library, Otsego District Library, Saugatuck-Douglas Library, and Waldo Library, all in southwestern Michigan. The document can be also accessed online through the Internet at the following website: http://midwest.fws.gov/nrda/kalamazoo. Written requests for paper copies may be made to: Lisa L. Williams, Ph.D., U.S. Fish and Wildlife Service, 2651 Coolidge Road, Suite 101, East Lansing, MI 48823.

SUPPLEMENTARY INFORMATION: The purpose of this natural resource damage assessment is to confirm and quantify injuries to natural resources, resultant economic damages, and the natural resource restoration necessary to address those injuries in the Kalamazoo River environment resulting primarily from exposure to polychlorinated biphenyls released by Kalamazoo River and Portage Creek paper mills. The injury and required restoration are assessed under the Comprehensive Environmental Response, Compensation, and Liability Act, as amended, the Clean Water Act, as amended, and, for the state trustees, Michigan's Natural Resources and Environmental Protection Act, as amended.

Dated: November 20, 2000.
William F. Hartwig,
Regional Director.

[FR Doc. 00-30247 Filed 11-27-00; 8:45 am]

BILLING CODE 4310-55-M